SECURITIES AND EXCHANGE COMMISSION

Sunshine Act Meeting

FEDERAL REGISTER CITATION OF PREVIOUS ANNOUNCEMENT: 68 FR 64672, November 14, 2003.

Status: Closed Meeting.

Place: 450 Fifth Street NW., Washington, DC.

Date and time of previously announced meeting: Wednesday, November 19, 2003 at 3 p.m.

Change in the meeting: Additional item.

The following item has been added to the Closed Meeting of Wednesday, November 19, 2003: Institution of injunctive action.

Commissioner Glassman, as duty officer, determined that Commission business required the above change and that no earlier notice thereof was possible.

At times, changes in Commission priorities require alterations in the scheduling of meeting items. For further information and to ascertain what, if any, matters have been added, deleted or postponed, please contact the Office of the Secretary at (202) 942-7070.

Dated: November 19, 2003.
Margaret H. McFarland,
Deputy Secretary.

[FR Doc. 03-29411 Filed 11-20-03; 12:31 pm]

BILLING CODE 8010-01-P